FEDERAL COMMUNICATIONS COMMISSION

47 CFR Parts 6 and 64

[CG Docket No. 03-123; FCC 07-110]

Sections 225 and 255 Interconnected Voice Over Internet Protocol Services (VoIP)

AGENCY: Federal Communications Commission.

ACTION: Final rule; announcement of effective date.

SUMMARY: In this document, the Commission announces that the Office of Management and Budget (OMB) has approved, for a period of three years, the information collection associated with the Commission's 2007 Report and Order concerning Sections 225 and 255 Interconnected Voice Over Internet Protocol Services (VoIP). This notice is consistent with the Report and Order, which stated that the Commission would publish a document in the Federal Register announcing the effective date of the rules.

DATES: The rules published at 72 FR 43546, August 6, 2007, are effective March 20, 2008. 47 CFR 6.11(a), 6.11(b), 6.18(b), 6.19, 64.604(a)(5), 64.604(c)(1)(i), 64.604(c)(1)(ii), 64.604(c)(2), 64.604(c)(3), 64.604(c)(5)(iii)(C), 64.604(c)(5)(iii)(E), 64.604(c)(5)(iii)(G), 64.604(c)(6)(v)(A)(3), 64.604(c)(6)(v)(G), 64.604(c)(7) and 64.606(b).

FOR FURTHER INFORMATION CONTACT: Lisa Boehley, Consumer Policy Division, Consumer & Governmental Affairs Bureau, at (202) 418-7395.

SUPPLEMENTARY INFORMATION: This document announces that, on January 15, 2008, OMB approved, for a period of three years, the information collection requirements contained in the Commission's Report and Order concerning Sections 225 and 255 Interconnected Voice Over Internet Protocol Services (VoIP), FCC 07-110, published at 72 FR 43546, August 6, 2007. The OMB Control Number is 3060-1111. The Commission publishes this notice as announcement of the effective date of the rules. If you have any comments on the burden estimates listed below, or how the Commission can improve the collections and reduce any burdens caused thereby, please contact Cathy Williams, Federal Communications Commission, Room 1-C823, 445 12th Street, SW., Washington, DC 20554. Please include the OMB Control Number, 3060-1111, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on January 15, 2008, for the information collection requirements contained in the Commission's rules at 47 CFR 6.11(a), 6.11(b), 6.18(b), 6.19, 64.604(a)(5), 64.604(c)(1)(i), 64.604(c)(1)(ii), 64.604(c)(2), 64.604(c)(3), 64.604(c)(5)(iii)(C), 64.604(c)(5)(iii)(E), 64.604(c)(5)(iii)(G), 64.604(c)(6)(v)(A)(3), 64.604(c)(6)(v)(G), 64.604(c)(7) and 64.606(b). The OMB Control Number is 3060-1111. The total annual reporting burden for respondents for these collections of information, including the time for gathering and maintaining the collection of information, is estimated to be: 5,711 respondents, a total annual hourly burden of 149,962 hours, and $5,711,000 in total annual costs.

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

Federal Communications Commission.
Marlene H. Dortch,
Secretary.

[FR Doc. E8-5690 Filed 3-19-08; 8:45 am]

BILLING CODE 6712-01-P